DEPARTMENT OF ENERGY

National Nuclear Security Administration

Notice of Availability for the Final Site-Wide Environmental Impact Statement for Continued Operation of the Lawrence Livermore National Laboratory

AGENCY: National Nuclear Security Administration, Department of Energy.

ACTION: Notice of availability.

SUMMARY: The National Nuclear Security Administration (NNSA), a semi-autonomous agency within the United States (U.S.) Department of Energy (DOE), announces the availability of a Final Site-Wide Environmental Impact Statement for Continued Operation of the Lawrence Livermore National Laboratory (Final LLNL SWEIS) (DOE/EIS-0547) in compliance with the National Environmental Policy Act of 1969 (NEPA). NNSA prepared the Final LLNL SWEIS to analyze the potential environmental impacts associated with continuing LLNL operations and foreseeable new and/or modified operations and facilities for approximately the next 15 years. Volume 3 of the Final LLNL SWEIS is a comment response document (CRD), which includes all comments received during the public comment period on the Draft LLNL SWEIS, as well as NNSA's responses to those comments.

DATES: NNSA will not issue any Record of Decision (ROD) on the proposal for a minimum of 30 days after the date that the U.S. Environmental Protection Agency (EPA) publishes its Notice of Availability (NOA) in the Federal Register.

ADDRESSES: Requests for additional information related to the Final LLNL SWEIS should be sent to Mr. Tom Grim, NEPA Document Manager, National Nuclear Security Administration, 1000 Independence Ave. SW, Washington, DC 20585; or sent by email to: LLNLSWEIS@nnsa.doe.gov.

The Final LLNL SWEIS is available for viewing and downloading on the NNSA NEPA Reading Room website (www.energy.gov/nnsa/nnsa-nepa-reading-room) and the DOE NEPA website (https://energy.gov/nepa/nepa-documents). Copies of the Final LLNL SWEIS will also be available at the Livermore Public Library, 1188 South Livermore Avenue, Livermore, California, and the Tracy Public Library, 20 East Eaton Avenue, Tracy, California.

FOR FURTHER INFORMATION CONTACT: For further information about this notice, please contact Mr. Tom Grim, NEPA Document Manager, National Nuclear Security Administration, 1000 Independence Ave. SW, Washington, DC 20585; call 833-778-0508 to leave a message; or email at: LLNLSWEIS@nnsa.doe.gov.

SUPPLEMENTARY INFORMATION: NNSA is responsible for meeting the national security requirements established by the President and Congress to maintain and enhance the safety, reliability, and performance of the U.S. nuclear weapons stockpile. The continued operation of LLNL is critical to NNSA's Stockpile Stewardship and Management Program, preventing the spread and use of nuclear weapons worldwide, and many other areas that may impact national security and global stability. The Final LLNL SWEIS analyzes two alternatives: (1) the No-Action Alternative and (2) the Proposed Action. The Final LLNL SWEIS also analyzes the new hybrid work environment under both alternatives due to increases in remote work at LLNL. Under the No-Action Alternative, NNSA would continue current facility operations throughout LLNL in support of assigned missions. The No-Action Alternative includes previously approved construction of new facilities; modernization, upgrade, and utility projects; and decontamination, decommissioning, and demolition of excess and aging facilities through 2022.

The Proposed Action includes the scope of the No-Action Alternative and an increase in current facility operations or enhanced operations that may require new or modified facilities and that are reasonably foreseeable over the next 15 years. Continued re-investment in site infrastructure would allow LLNL to meet mission deliverables and sustain science, technology, and engineering excellence to respond to future national security challenges. The Proposed Action includes 75 new projects, totaling 3.3 million square feet, between 2023 and 2035. This comprises 61 proposed projects, totaling 2.9 million square feet, at LLNL's main site in Livermore, California and 14 proposed projects, totaling 385,000 square feet, at LLNL's remote testing site, Site 300, near Tracy, California. In addition, NNSA proposes 20 types of modernization, upgrade, and utility projects, each involving several facilities. Under the Proposed Action, NNSA would also decontaminate, decommission, and demolish 150 facilities, totaling 1,170,000 square feet. NNSA is also proposing operational changes that would increase the tritium emissions limits in the National Ignition Facility (Building 581) and the Tritium Facility (Building 331), decrease the administrative limit for fuels-grade-equivalent plutonium in the Superblock (Building 332), increase the administrative limits for plutonium-239 at Building 235, and revise the National Ignition Facility radioactive materials administrative limits to be consistent with DOE's Facility Hazard Categorization Standard. The Proposed Action also includes several projects to enhance the resilience of the energy infrastructure and demonstrate renewable power solutions.

This Final LLNL SWEIS contains revisions and new information based in part on comments received on the Draft LLNL SWEIS. These revisions and new information are indicated by sidebars in the margins. Volume 3 of the Final LLNL SWEIS contains summaries of the comments received, images of the comment documents, and NNSA's responses to the comments. NNSA considered all comments received on the Draft LLNL SWEIS in preparing the Final LLNL SWEIS.

NNSA will consider the environmental impact analysis presented in the Final LLNL SWEIS, along with other information, in making decisions regarding how operations will be conducted at LLNL, including construction and operation of new facilities, modification and upgrade of existing facilities and utilities, operational changes, and/or decontamination, decommission and demolition of excess and aging facilities. NNSA will not issue any ROD on the proposal for a minimum of 30 days after the date that EPA publishes its NOA in the Federal Register. NNSA will publish any ROD in the Federal Register.

Signing Authority

This document of the Department of Energy was signed on October 13, 2023, by Jill Hruby, Under Secretary for Nuclear Security and Administrator, National Nuclear Security Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 27, 2023.
Treena V. Garrett,
Federal Register Liaison Officer, U.S. Department of Energy.

[FR Doc. 2023-24141 Filed 11-2-23; 8:45 am]

BILLING CODE 6450-01-P